GENERAL SERVICES ADMINISTRATION

41 CFR Parts 300-90, 301-74, and Appendix E to Chapter 301

[FTR Case 2021-301-01; Docket No. GSA-FTR-2021-0011, Sequence No. 1]

RIN 3090-AK41

Federal Travel Regulation; Removal and Reservation of Part 300-90—Telework Travel Expenses Test Programs and Appendix E to Chapter 301—Suggested Guidance for Conference Planning

AGENCY: Office of Government-wide Policy (OGP), General Services Administration (GSA).

ACTION: Proposed rule.

SUMMARY: GSA is proposing to amend the Federal Travel Regulation (FTR) to remove and reserve the regulations implementing GSA's authority to conduct telework travel expenses test programs. GSA's authority to authorize agencies to conduct such test programs expired in accordance with the William M. (Mac) Thornberry National Defense Authorization Act for Fiscal Year 2021. GSA is also proposing to remove and reserve Appendix E to Chapter 301, which contains suggested guidance for conference planning.

DATES: Interested parties should submit written comments to the Regulatory Secretariat Division at the address shown below on or before July 13, 2021 to be considered in the formation of the final rule.

ADDRESSES: Submit comments in response to FTR case 2021-301-01 to: Regulations.gov: https://www.regulations.gov. Submit comments via the Federal eRulemaking portal by searching for “FTR Case 2021-301-01”. Select the link “Comment Now” that corresponds with FTR Case 2021-301-01. Follow the instructions provided at the “Comment Now” screen. Please include your name, company name (if any), and “FTR Case 2021-301-01” on your attached document. If your comment cannot be submitted using https://www.regulations.gov, call or email the points of contact in the FOR FURTHER INFORMATION CONTACT section of this document for alternate instructions.

Instructions: Please submit comments only and cite FTR Case 2021-301-01, in all correspondence related to this case. Comments received generally will be posted without change to https://www.regulations.gov, including any personal and/or business confidential information provided. To confirm receipt of your comment(s), please check www.regulations.gov, approximately two to three days after submission to verify posting.

FOR FURTHER INFORMATION CONTACT: Ms. Jill Denning, Program Analyst, at 202-208-7642 or travelpolicy@gsa.gov for clarification of content. For information pertaining to status or publication schedules, contact the Regulatory Secretariat at 202-501-4755. Please cite FTR Case 2021-301-01.

SUPPLEMENTARY INFORMATION:

I. Background

This proposed rule first amends the FTR to remove and reserve part 300-90. Originally, this part was included in the FTR due to the enactment of Public Law (Pub. L.) 111-292, the “Telework Enhancement Act of 2010,” codified at 5 U.S.C. 5711, which authorized the creation of agency telework travel expenses test programs managed by GSA.

When submitting a test program proposal to GSA, agencies were directed to include an analysis of the expected cost and benefits and a set of criteria for evaluating the effectiveness of the program. Once approved, participating agencies were required to submit an annual report on the results of the test program, including overall costs and benefits.

Only one Federal agency, the United States Patent and Trademark Office (USPTO), ever requested and then implemented a telework travel test program under this authority. When Public Law 116-283 became effective on January 1, 2021, it made the USPTO telework travel expenses program permanent. At the same time, the law also removed GSA's authority to implement telework travel expenses test programs, making part 300-90 no longer necessary.

GSA is also proposing to remove and reserve Appendix E to Chapter 301 of the FTR, “Suggested Guidance for Conference Planning,” first published January 10, 2000 (65 FR 1329). As noted in the title, the guidance is suggested, not a mandatory set of instructions agencies must follow when planning a conference. Some readers have found the word “suggested” in the title confusing and duplicative, considering similar regulatory instructions regarding conference planning are located in FTR part 301-74. GSA believes that general information on how to plan a conference, the focus of Appendix E, is now more widely available through non-Governmental and professional resources than it was when the appendix was first published.

Finally, one reference to Appendix E that was in regulatory text is also proposed for removal.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not anticipated to be a significant regulatory action and, therefore, was not subject to review under Section 6(b) of E.O. 12866, Regulatory Planning and Review, dated September 30, 1993.

III. Congressional Review Act

This proposed rule is not a major rule under 5 U.S.C. 804(2). Subtitle E of the Small Business Regulatory Enforcement Fairness Act of 1996 (codified at 5 U.S.C. 801-808), also known as the Congressional Review Act or CRA, generally provides that before a rule may take effect, the agency promulgating the rule must submit a rule report, which includes a copy of the rule, to each House of the Congress and to the Comptroller General of the United States.

IV. Regulatory Flexibility Act

GSA does not expect this proposed rule to have a significant economic impact on a substantial number of small entities within the meaning of the Regulatory Flexibility Act, 5 U.S.C. 601, et seq., because the changes are administrative in nature and only affect Government employees.

Therefore, an Initial Regulatory Flexibility Analysis has not been performed. GSA invites comments from small business concerns and other interested parties on the expected impact of this rule on small entities.

GSA will also consider comments from small entities concerning the existing regulations in subparts affected by the rule in accordance with 5 U.S.C. 610. Interested parties must submit such comments separately and should cite 5 U.S.C. 610 (FTR Case 2021-301-01), in correspondence.

V. Paperwork Reduction Act

The Paperwork Reduction Act does not apply because the changes to the FTR do not impose recordkeeping or information collection requirements, or the collection of information from offerors, contractors, or members of the public that require the approval of the Office of Management and Budget (OMB) under 44 U.S.C. 3501, et seq.

List of Subjects in 41 CFR Parts 300-90 and 301-74, and Appendix E to Chapter 301

Government employees, Reporting and recordkeeping requirements, Travel and transportation expenses.

Krystal J. Brumfield,
Associate Administrator, Office of Government-wide Policy.

Under 5 U.S.C. 5707 and 5711 and discussed in the preamble, GSA proposes to amend 41 CFR parts 300-90, 301-74, and Appendix E to part 301 as set forth below:

PART 300-90—TELEWORK EXPENSES TEST PROGRAMS [REMOVED AND RESERVED]

1. Remove and reserve part 300-90.

PART 301-74—CONFERENCE PLANNING

2. The authority citation for 41 CFR 301-74 continues to read as follows:

Authority: 5 U.S.C. 5707.

§ 301-74.4 [Amended]

3. Amend § 301-74.4 by removing the last sentence.

Appendix E to Chapter 301 [Removed and Reserved]

4. Remove and reserve appendix E to Chapter 301.

[FR Doc. 2021-09303 Filed 5-13-21; 8:45 am]

BILLING CODE P